DEPARTMENT OF THE INTERIOR

National Park Service

[NPS-WASO-NAGPRA-NPS0034878; PPWOCRADN0-PCU00RP14.R50000]

Notice of Inventory Completion: Warren Anatomical Museum, Harvard University, Boston, MA

AGENCY: National Park Service, Interior.

ACTION: Notice.

SUMMARY: The Peabody Museum of Archaeology and Ethnology and Warren Anatomical Museum, Harvard University have completed an inventory of human remains, in consultation with the appropriate Indian Tribes or Native Hawaiian organizations, and have determined that there is no cultural affiliation between the human remains and any present-day Indian Tribes or Native Hawaiian organizations. Representatives of any Indian Tribe or Native Hawaiian organization not identified in this notice that wish to request transfer of control of these human remains should submit a written request to the Peabody Museum of Archaeology and Ethnology, Harvard University. If no additional requestors come forward, transfer of control of the human remains to the Indian Tribes or Native Hawaiian organizations stated in this notice may proceed.

DATES: Representatives of any Indian Tribe or Native Hawaiian organization not identified in this notice that wish to request transfer of control of these human remains should submit a written request with information in support of the request to the Peabody Museum of Archaeology and Ethnology, Harvard University at the address in this notice by December 19, 2022.

FOR FURTHER INFORMATION CONTACT: Jane Pickering, William & Muriel Seabury Howells Director, Peabody Museum of Archaeology and Ethnology, Harvard University, 11 Divinity Avenue, Cambridge, MA 02138, telephone (617) 496-2374, email jpickering@fas.harvard.edu.

SUPPLEMENTARY INFORMATION: Notice is here given in accordance with the Native American Graves Protection and Repatriation Act (NAGPRA), 25 U.S.C. 3003, of the completion of an inventory of human remains under the control of the Warren Anatomical Museum, Harvard University, Boston, MA. The human remains were removed from Barnstable County, MA.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by the Peabody Museum of Archaeology and Ethnology and Warren Anatomical Museum professional staff in consultation with representatives of the Mashpee Wampanoag Tribe (previously listed as Mashpee Wampanoag Indian Tribal Council, Inc.); Narragansett Indian Tribe; Wampanoag Tribe of Gay Head (Aquinnah); and the Assonet Band of the Wampanoag Nation, a non-federally recognized Indian group (hereafter referred to as “The Consulted Tribes and Group”).

History and Description of the Remains

In 1831, human remains representing, at minimum, two individuals were removed from an “Indian burial ground” in Yarmouth, Barnstable County, MA, by an unknown person. In December of 1883, J. Collins Warren donated these human remains to the Warren Anatomical Museum as part of the J. Mason Warren Collection. These individuals were buried approximately two feet below the ground surface in a mound of gravel and sand near the water's edge. The human remains were described as having been interred in a flexed position. The human remains are the nearly complete cranium of an adult male and the nearly complete mandible of an adult that is probably male. No known individuals were identified. No associated funerary objects are present.

Determinations Made by the Peabody Museum of Archaeology and Ethnology and the Warren Anatomical Museum, Harvard University

Officials of the Peabody Museum of Archaeology and Ethnology and the Warren Anatomical Museum, Harvard University have determined that:

• Pursuant to 25 U.S.C. 3001(9), the human remains described in this notice are Native American based on osteological analysis, archeological context, and museum records.

• Pursuant to 25 U.S.C. 3001(9), the human remains described in this notice represent the physical remains of two individuals of Native American ancestry.

• Pursuant to 25 U.S.C. 3001(2), a relationship of shared group identity cannot be reasonably traced between the Native American human remains and any present-day Indian Tribe.

• Treaties, Acts of Congress, or Executive Orders, indicate that the land from which the Native American human remains were removed is the aboriginal land of the Mashpee Wampanoag Tribe (previously listed as Mashpee Wampanoag Indian Tribal Council, Inc.) and the Wampanoag Tribe of Gay Head (Aquinnah) (hereafter referred to as “The Tribes”).

• Pursuant to 43 CFR 10.11(c)(1), the disposition of the human remains may be to The Tribes.

Additional Requestors and Disposition

Representatives of any Indian Tribe or Native Hawaiian organization not identified in this notice that wish to request transfer of control of these human remains should submit a written request with information in support of the request to Jane Pickering, William & Muriel Seabury Howells Director, Peabody Museum of Archaeology and Ethnology, Harvard University, 11 Divinity Avenue, Cambridge, MA 02138, telephone (617) 496-2374, email jpickering@fas.harvard.edu, by December 19, 2022. After that date, if no additional requestors have come forward, transfer of control of the human remains to The Tribes may proceed.

The Peabody Museum of Archaeology and Ethnology on behalf of the Warren Anatomical Museum, Harvard University is responsible for notifying The Consulted Tribes and Group that this notice has been published.

Dated: November 9, 2022.
Melanie O'Brien,
Manager, National NAGPRA Program.

[FR Doc. 2022-25126 Filed 11-17-22; 8:45 am]

BILLING CODE 4312-52-P